DEPARTMENT OF COMMERCE

National Oceanic and Atmospheric Administration

[RTID 0648-XB442]

Caribbean Fishery Management Council; Public Meetings

AGENCY: National Marine Fisheries Service (NMFS), National Oceanic and Atmospheric Administration (NOAA), Commerce.

ACTION: Notice of public meetings.

SUMMARY: The Caribbean Fishery Management Council's (Council) District Advisory Panels (DAPs) will hold public virtual meetings to address the items contained in the tentative agenda included in the SUPPLEMENTARY INFORMATION.

DATES: The DAPs public virtual meetings will be held as follows: St. Thomas/St. John DAP, October 26, 2021, from 9 a.m. to 5 p.m.; and Puerto Rico DAP, October 27, 2021, from 10 a.m. to 5 p.m. All meetings will be at Atlantic Standard Time (AST).

ADDRESSES: You may join the DAPs public virtual meetings (via Zoom) from a computer, tablet or smartphone by entering the following addresses:

DAP-STT/STJ

Join Zoom Meeting

https://us02web.zoom.us/j/86262657165?pwd=aGQ4U25rME92d1p1TWo4d3Y3RGFrdz09

Meeting ID: 862 6265 7165

Passcode: 901759

One tap mobile

+17879451488,,86262657165#,,,,*901759# Puerto Rico

+17879667727,,86262657165#,,,,*901759# Puerto Rico

Dial by your location

+1 787 945 1488 Puerto Rico

+1 787 966 7727 Puerto Rico

+1 939 945 0244 Puerto Rico

Meeting ID: 862 6265 7165

Passcode: 901759

DAP-PR

Join Zoom Meeting

https://us02web.zoom.us/j/86222659918?pwd=UitRcnBJRXQyMUpWaEtISEZ6elVvQT09

Meeting ID: 862 2265 9918

Passcode: 623876

One tap mobile

+19399450244,,86222659918#,,,,*623876# Puerto Rico

+17879451488,,86222659918#,,,,*623876# Puerto Rico

Dial by your location

+1 939 945 0244 Puerto Rico

+1 787 945 1488 Puerto Rico

+1 787 966 7727 Puerto Rico

Meeting ID: 862 2265 9918

Passcode: 623876

FOR FURTHER INFORMATION CONTACT: Miguel Rolón, Executive Director, Caribbean Fishery Management Council, 270 Muñoz Rivera Avenue, Suite 401, San Juan, Puerto Rico 00918-1903; telephone: (787) 398-3717.

SUPPLEMENTARY INFORMATION: The items included in the tentative agenda are:

Call to Order

Roll Call

Adoption of Agenda

Discussion of Possible Compatible Regulations between Federal and Local Governments for the Island-Based Fishery Management Plans

Other Business

All meetings will be discussing the same agenda items.

Other than the starting date and time, the order of business may be adjusted as necessary to accommodate the completion of agenda items, at the discretion of the Chair. The meetings will begin on October 26, 2021 at 9 a.m. AST, and will end on October 27, 2021, at 5 p.m. AST.

Special Accommodations

Simultaneous interpretation will be provided for the DAP-PR, on October 27, 2021.

For simultaneous interpretation English-Spanish-English follow your Zoom screen instructions. You will be asked which language you prefer when you join the meeting.

For any additional information on this public virtual meeting, please contact Diana Martino, Caribbean Fishery Management Council, 270 Muñoz Rivera Avenue, Suite 401, San Juan, Puerto Rico, 00918-1903, telephone: (787) 226-8849.

Authority: 16 U.S.C. 1801 et seq.

Dated: September 30, 2021.
Tracey L. Thompson,
Acting Deputy Director, Office of Sustainable Fisheries, National Marine Fisheries Service.

[FR Doc. 2021-21734 Filed 10-4-21; 8:45 am]

BILLING CODE 3510-22-P